OFFICE OF PERSONNEL MANAGEMENT

Civil Service Retirement System Board of Actuaries Meeting

AGENCY: Office of Personnel Management.

ACTION: Notice of meeting.

SUMMARY: The purpose of the meeting is for the Board to review the actuarial methods and assumptions used in the valuations of the Civil Service Retirement and Disability Fund (CSRDF).

DATES: The Civil Service Retirement System Board of Actuaries plans to meet on Friday, April 28, 2023 at 10 a.m. EDT.

ADDRESSES: The meeting will be held at the U.S. Office of Personnel Management (OPM), 1900 E Street NW, Washington, DC 20415.

FOR FURTHER INFORMATION CONTACT: Gregory Kissel, Senior Actuary for Pension Programs, U.S. Office of Personnel Management, 1900 E Street NW, Room 4316, Washington, DC 20415, by phone at (202) 606-1774, or by email to actuary@opm.gov.

SUPPLEMENTARY INFORMATION:

Agenda

1. Summary of recent legislative proposals

2. Review of actuarial assumptions

a. Demographic Assumptions

b. Economic Assumptions

3. CSRDF Annual Report

Persons desiring to attend this meeting of the Civil Service Retirement System Board of Actuaries, or to make a statement for consideration at the meeting, should contact OPM at least 5 business days in advance of the meeting date at the address shown below. Attendance may be limited in accordance with the building's operating status and the health and safety protocols in effect as of the date of the meeting. Any detailed information or analysis requested for the Board to consider should be submitted at least 15 business days in advance of the meeting date. The manner and time for any material presented to or considered by the Board may be limited.

U.S. Office of Personnel Management.
Stephen Hickman,
Federal Register Liaison.

[FR Doc. 2023-02944 Filed 2-10-23; 8:45 am]

BILLING CODE 6325-63-P